DEPARTMENT OF ENERGY

Proposed Subsequent Arrangement

AGENCY: Office of Nonproliferation and Arms Control, Department of Energy.

ACTION: Proposed subsequent arrangement.

SUMMARY: This document is being issued under the authority of the Atomic Energy Act of 1954, as amended. The Department is providing notice of a proposed subsequent arrangement under the Agreement for Cooperation Concerning Peaceful Uses of Nuclear Energy Between the Government of the United States of America and the Government of Ukraine and the Agreement for Cooperation in the Peaceful Uses of Nuclear Energy Between the United States of America and the European Atomic Energy Community.

DATES: This subsequent arrangement will take effect no sooner than March 21, 2017.

FOR FURTHER INFORMATION CONTACT: Mr. Richard S. Goorevich, Office of Nonproliferation and Arms Control, National Nuclear Security Administration, Department of Energy. Telephone: 202-586-0589 or email: Richard.Goorevich@nnsa.doe.gov.

SUPPLEMENTARY INFORMATION: This subsequent arrangement concerns the retransfer of fuel elements containing 2,644,700 grams of U.S.-origin uranium (106,545 grams U-235), from the Euratom Supply Agency to Ukraine. The material, which is currently located at Westinghouse Electric Sweden in Vasteras, Sweden, will be used for the production of electricity by the National Nuclear Energy Generating Company's (Energoatom) Zaporizhzhya Nuclear Power Plant 1 in Zaporizhzhya Oblast, Ukraine.

In accordance with section 131a. of the Atomic Energy Act of 1954, as amended, it has been determined that this subsequent arrangement concerning the retransfer of nuclear material of United States origin will not be inimical to the common defense and security of the United States of America.

Dated: February 28, 2017.
For the Department of Energy.
David Huizenga,
Acting Deputy Administrator, Defense Nuclear Nonproliferation.

[FR Doc. 2017-04311 Filed 3-3-17; 8:45 am]

BILLING CODE 6450-01-P